DEPARTMENT OF AGRICULTURE

Agricultural Marketing Service

[Docket No. FV-06-309]

United States Standards for Grades of Tomatoes on the Vine

AGENCY: Agricultural Marketing Service, USDA.

ACTION: Notice.

SUMMARY: The Agricultural Marketing Service (AMS), of the Department of Agriculture (USDA) is soliciting comments on the proposed voluntary United States Standards for Grades of Tomatoes on the Vine. The proposed standards would provide industry with a common language and uniform basis for trading, thus promoting the orderly and efficient marketing of tomatoes on the vine (TOV).

DATES: Comments must be received by July 25, 2006.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, e-mail FPB.DocketClerk@usda.gov. Comments should make reference to the dates and page number of this issue of the Federal Register and will be made available for public inspection in the above office during regular business hours.

The proposed United States Standards for Grades of Tomatoes on the Vine are available either from the above address or the AMS, Fresh Products Branch Web site at: http://www.ams.usda.gov/fv/fpbdocketlist.htm.

FOR FURTHER INFORMATION CONTACT: Cheri L. Emery, at the above address or call (202) 720-2185; e-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade, and packaging, and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Pograms.

AMS is proposing to establish voluntary United States Standards for Grades of Tomatoes on the Vine using the procedures that appear in Part 36, Title 7 of the Code of Federal Regulations (7 CFR part 36).

Background

AMS published a notice in the Federal Register (68 FR 68859) on December 10, 2003, soliciting comments on the possible revision of the United States Standards for Grades of Greenhouse Tomatoes. Based on comments received, AMS has determined that there is a need for a separate standard specifically for TOV. The proposed standards for TOV would establish the following grades as well as a tolerance for each grade: U.S. No. 1 and U.S. No. 2. In addition, “Application of Tolerances” and “Size Classifications” sections would be established. This proposal also defines “Damage,” “Serious Damage,” specific basic requirements, and other defects.

The proposed TOV standards would provide a common language for trade and a means of measuring value in the marketing of this commodity. The official grade of a lot of TOV covered by these standards will be determined by the procedures set forth in the Regulations Governing Inspection, Certification, and Standards of Fresh Fruits, Vegetables, and Other Products. (Sec. 51.1 to 51.61).

This notice provides a 60-day comment period for interested parties to comment on the proposed United States Standards for Grades of Tomatoes on the Vine.

Authority: 7 U.S.C. 1621-1627.

Dated: May 22, 2006.
Lloyd C. Day,
Administrator, Agricultural Marketing Service.

[FR Doc. E6-8103 Filed 5-25-06; 8:45 am]

BILLING CODE 3410-02-P